DEPARTMENT OF VETERANS AFFAIRS

Joint Biomedical Laboratory Research and Development and Clinical Science Research and Development Services Scientific Merit Review Board; Notice of Meetings

The Department of Veterans Affairs (VA) gives notice under Public Law 92-463; Title 5 U.S.C. App. 2 (Federal Advisory Committee Act) that the subcommittees of the Joint Biomedical Laboratory Research and Development and Clinical Science Research and Development Services Scientific Merit Review Board (JBL/CS SMRB) will meet from 8 a.m. to 5 p.m. on the dates indicated below (unless otherwise listed):

Subcommittee | Date | Location
Endocrinology-B | May 21, 2015 | *VA Central Office.
Infectious Diseases-B | May 21, 2015 | Crowne Plaza Old Town Alexandria.
Nephrology | May 21, 2015 | Crowne Plaza Old Town Alexandria.
Neurobiology-C | May 21, 2015 | Westin Crystal City.
Aging and Clinical Geriatrics | May 27, 2015 | *VA Central Office.
Surgery | May 27, 2015 | *VA Central Office.
Cardiovascular Studies-A | May 28, 2015 | Hampton Inn.
Infectious Diseases-A | May 28, 2015 | Westin Crystal City.
Neurobiology-F | May 28, 2015 | *VA Central Office.
Neurobiology-A | May 29, 2015 | Crowne Plaza Old Town Alexandria.
Neurobiology-D | May 29, 2015 | Crowne Plaza Old Town Alexandria.
Cellular and Molecular Medicine | June 1, 2015 | Westin Crystal City.
Endocrinology-A | June 1, 2015 | Westin Crystal City.
Epidemiology | June 2, 2015 | *VA Central Office.
Neurobiology-R | June 2, 2015 | *VA Central Office (12:00 p.m. ET).
Oncology-E | June 2, 2015 | *VA Central Office (10:00 a.m. ET).
Oncology-B | June 2, 2015 | *VA Central Office (1:00 p.m. ET).
Mental Health and Behavioral Sciences-A | June 3, 2015 | Hampton Inn.
Oncology-D | June 3, 2015 | *VA Central Office (10:00 a.m. ET).
Oncology-C | June 3, 2015 | *VA Central Office (1:00 p.m. ET).
Pulmonary Medicine | June 4, 2015 | Westin Crystal City.
Special Emphasis on Genomics | June 4, 2015 | Westin Crystal City.
Gulf War Research | June 4, 2015 | *VA Central Office.
Clinical Trials-B | June 5, 2015 | *VA Central Office.
Neurobiology-E | June 5, 2015 | Hampton Inn.
Oncology-A | June 5, 2015 | *VA Central Office (10:00 a.m. ET).
Clinical Trials-A | June 9, 2015 | Hampton Inn.
Gastroenterology | June 9, 2015 | Westin Crystal City.
Neurobiology-B | June 9, 2015 | Westin Crystal City.
Immunology-A | June 10, 2015 | American Association of Airport Executives.
Special Emphasis on Million Veteran Program Projects | June 10, 2015 | Hampton Inn.
Cardiovascular Studies-B | June 11, 2015 | Crowne Plaza Old Town Alexandria.
Hematology | June 11, 2015 | *VA Central Office.
JBL/CS SMRB | June 16, 2015 | *VA Central Office (3:00 p.m. ET).
Eligibility | July 20, 2015 | Hampton Inn.
The addresses of the meeting sites are:
American Association of Airport Executives, 601 Madison Street, 3rd Floor, Alexandria, VA.
Crowne Plaza Old Town Alexandria, 901 N. Fairfax Street, Alexandria, VA.
Hampton Inn, 1729 H Street NW., Washington, DC.
US Access Board, 1331 F Street NW., Suite 800, Washington, DC.
Westin Crystal City, 1800 Jefferson Davis Highway, Arlington, VA.
VA Central Office, 1100 First Street NE., 6th Floor, Washington, DC.
*Teleconference.

The purpose of the subcommittees is to provide advice on the scientific quality, budget, safety and mission relevance of investigator-initiated research proposals submitted for VA merit review evaluation. Proposals submitted for review include numerous medical specialties within the general areas of biomedical, behavioral and clinical science research.

The subcommittee meetings will be closed to the public for the review, discussion, and evaluation of initial and renewal research proposals. However, the JBL/CS SMRB teleconference meeting will be open to the public. Members of the public who wish to attend the open JBL/CS SMRB teleconference may dial 1-800-767-1750, participant code 95562. Members of the public who wish to make a statement at the JBL/CS SMRB meeting must notify Dr. Alex Chiu via email at alex.chiu@va.gov by June 9, 2015.

The closed subcommittee meetings involve discussion, examination, and reference to staff and consultant critiques of research proposals. Discussions will deal with scientific merit of each proposal and qualifications of personnel conducting the studies, the disclosure of which would constitute a clearly unwarranted invasion of personal privacy. Additionally, premature disclosure of research information could significantly frustrate implementation of proposed agency action regarding the research proposals. As provided by subsection 10(d) of Public Law 92-463, as amended by Public Law 94-409, closing the subcommittee meetings is in accordance with Title 5 U.S.C. 552b(c)(6) and (9)(B).

Those who would like to obtain a copy of the minutes from the closed subcommittee meetings and rosters of the subcommittee members should contact Alex Chiu, Ph.D., Manager, Merit Review Program (10P9B), Department of Veterans Affairs, 810 Vermont Avenue NW., Washington, DC 20420, at (202) 443-5672 or email at alex.chiu@va.gov.

Dated: April 16, 2015.
Rebecca Schiller,
Advisory Committee Management Officer.

[FR Doc. 2015-09186 Filed 4-20-15; 8:45 am]

BILLING CODE P